DEPARTMENT OF TRANSPORTATION

Federal Aviation Administration

14 CFR Part 39

[Docket No. 2000-NM-182-AD; Amendment 39-12202; AD 2001-08-25]

RIN 2120-AA64

Airworthiness Directives; Airbus Model A330-301, -321, -322, and -342 Series Airplanes and Airbus Model A340 Series Airplanes

AGENCY: Federal Aviation Administration, DOT.

ACTION: Final rule; request for comments.

SUMMARY: This amendment adopts a new airworthiness directive (AD) that is applicable to certain Airbus Model A330-301, -321, -322, and -342 series airplanes and certain Airbus Model A340 series airplanes. This action requires reinforcement of the wing structure at the inboard pylon rear pickup area. This action is necessary to prevent fatigue cracking of the bottom skin and reinforcing plate of the wing due to bending, which could lead to reduced structural integrity of the airplane wing. This action is intended to address the identified unsafe condition.

DATES: Effective May 14, 2001.

The incorporation by reference of certain publications listed in the regulations is approved by the Director of the Federal Register as of May 14, 2001.

Comments for inclusion in the Rules Docket must be received on or before May 29, 2001.

ADDRESSES: Submit comments in triplicate to the Federal Aviation Administration (FAA), Transport Airplane Directorate, ANM-114, Attention: Rules Docket No. 2000-NM-182-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2000-NM-182-AD” in the subject line and need not be submitted in triplicate. Comments sent via the Internet as attached electronic files must be formatted in Microsoft Word 97 for Windows or ASCII text.

The service information referenced in this AD may be obtained from Airbus Industrie, 1 Rond Point Maurice Bellonte, 31707 Blagnac Cedex, France. This information may be examined at the FAA, Transport Airplane Directorate, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: The Direction Générale de l'Aviation Civile (DGAC), which is the airworthiness authority for France, notified the FAA that an unsafe condition may exist on certain Airbus Model A330-301, -321, -322, and -342 series airplanes and certain Airbus Model A340 series airplanes. The DGAC advises that, during wing fatigue tests, cracks were detected on the bottom skin and reinforcing plates of stringers 10 and 11 between ribs 10 and 10A at the inboard pylon rear pickup. This condition, if not corrected, could result in reduced structural integrity of the airplane wing.

Explanation of Relevant Service Information

Airbus has issued Service Bulletins A330-57-3021, Revision 03, including Appendices 01 and 02, (for Model A330 series airplanes), and A340-57-4025, Revision 02, including Appendices 01 and 02 (for Model A340 series airplanes), both dated November 5, 1999, which describe procedures for reinforcement of the wing structure at the inboard pylon rear pickup area. This involves removing the existing reinforcing plate; performing high-frequency eddy current tests for cracks, and corrective action, if necessary; and installing a larger reinforcing plate and packer plate. Accomplishment of the actions specified in the service bulletins is intended to adequately address the identified unsafe condition. The DGAC classified these service bulletins as mandatory and issued French airworthiness directives 2000-178-121(B) and 2000-179-147(B), both dated May 3, 2000, in order to assure the continued airworthiness of these airplanes in France.

Airbus Service Bulletin A330-57-3021, Revision 03, including Appendices 01 and 02, dated November 5, 1999, specifies the prior or concurrent accomplishment of Airbus Service Bulletin A330-54-3005. Revision 01, dated October 19, 1999, of this service bulletin, describes procedures for replacing five existing fillets with five new fillets, one existing firewall with one new firewall, one existing case drainpipe with one new case drainpipe, and modifying the contour milling of the external tip of rib 19A on the left hand (LH) and right hand (RH) pylons.

Airbus Service Bulletin A340-57-4025, Revision 02, including Appendices 01 and 02, dated November 5, 1999, specifies the prior or concurrent accomplishment of Airbus Service Bulletin A340-54-4003. Revision 01, dated April 26, 2000, of this service bulletin, describes procedures for replacing five existing fillets with five new fillets and one existing firewall with one new firewall on the LH and RH inboard pylons.

FAA's Conclusions

These airplane models are manufactured in France and are type certificated for operation in the United States under the provisions of section 21.29 of the Federal Aviation Regulations (14 CFR 21.19) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of the Rule

Since an unsafe condition has been identified that is likely to exist or develop on other airplanes of the same type design that may be registered in the United States at some future time, this AD is being issued to prevent fatigue cracking of the bottom skin and reinforcing plate of the airplane wings due to bending, which could lead to reduced structural integrity of the wings. This AD requires accomplishment of the actions specified in the service bulletins described previously, except as discussed below.

Differences Between Rule and Service Bulletins

Operators should note that, although the service bulletins specify that the manufacturer may be contacted for disposition of certain repair conditions, this AD requires the repair of those conditions to be accomplished per a method approved by either the FAA, or the DGAC (or its delegated agent). In light of the type of repair that would be required to address the identified unsafe condition, and in consonance with existing bilateral airworthiness agreements, the FAA has determined that, for this AD, a repair approved by either the FAA or the DGAC would be acceptable for compliance with this AD.

Cost Impact

None of the airplanes affected by this action are on the U.S. Register. All airplanes included in the applicability of this AD currently are operated by non-U.S. operators under foreign registry; therefore, they are not directly affected by this AD action. However, the FAA considers that this AD is necessary to ensure that the unsafe condition is addressed in the event that any of these subject airplanes are imported and placed on the U.S. Register in the future.

Should an affected airplane be imported and placed on the U.S. Register in the future, for Model A330-301, -321, -322, and -342 series airplanes, to follow Airbus Service Bulletin A330-57-3021, Revision 03, including Appendices 01 and 02, dated November 5, 1999, it would require approximately 380 work hours to accomplish the required replacements, at an average labor rate of $60 per work hour. Required parts would cost approximately $44,800 per airplane. Based on these figures, the expected cost of these replacements per airplane would be $67,600.

Also for Model A330-301, -321, -322, and -342 series airplanes, to follow Airbus Service Bulletin A330-54-3005, Revision 01, dated October 19, 1999, it would require approximately 36 work hours to accomplish the required replacements, at an average labor rate of $60 per work hour. Required parts would cost approximately $15,774 per airplane. Based on these figures, the expected cost of these replacements per airplane would be $17,934.

For Airbus Model A340 series airplanes, to follow Airbus Service Bulletin A340-57-4025, Revision 02, including Appendices 01 and 02, dated November 5, 1999, it would require approximately 380 work hours to accomplish the required replacements, at an average labor rate of $60 per work hour. Required parts would cost approximately $44,800 per airplane. Based on these figures, the expected cost of these replacements per airplane would be $67,600.

Also for Model A340 series airplanes, to follow Airbus Service Bulletin A340-54-4003, Revision 01, dated April 26, 2000, it would require approximately 26 work hours to accomplish the required replacements, at an average labor rate of $60 per work hour. Required parts would cost approximately $ 15,358 per airplane. Based on these figures, the expected cost of these replacements per airplane would be $16,918.

Determination of Rule's Effective Date

Since this AD action does not affect any airplane that is currently on the U.S. register, it has no adverse economic impact and imposes no additional burden on any person. Therefore, prior notice and public procedures hereon are unnecessary and the amendment may be made effective in less than 30 days after publication in the Federal Register.

Comments Invited

Although this action is in the form of a final rule and was not preceded by notice and opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the proposed AD is being requested.

• Include justification (e.g.,> reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2000-NM-182-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-08-25 Airbus Industrie: Amendment 39-12202. Docket 2000-NM-182-AD.

Applicability: Model A330-301, -321, -322, and -342 series airplanes, as listed in Airbus Service Bulletin A330-57-3021, Revision 03, including Appendices 01 and 02, dated November 5, 1999; and Model A340 series airplanes, as listed in Airbus Service Bulletin A340-57-4025, Revision 02, including Appendices 01 and 02, dated November 5, 1999; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent fatigue cracking of the airplane wing bottom skin and reinforcing plate due to wing bending, which could lead to reduced structural integrity of the wing, accomplish the following:

Modification

(a) For Model A330 series airplanes, prior to the accumulation of 12,000 total flight cycles or 37,300 total flight hours, whichever occurs first, accomplish the actions required by paragraphs (a)(1) and (a)(2) of this AD.

(1) Prior to, or concurrently with, the accomplishment of the tasks required by paragraph (a)(2) of this AD, replace five existing fillets with five new fillets, one existing firewall with one new firewall, and one existing case drainpipe with one new case drainpipe, and modify the contour milling of the external tip of rib 19A on each of the left and right wing pylons, in accordance with Airbus Service Bulletin A330-54-3005, Revision 01, dated October 19, 1999.

(2) Concurrently with, or subsequent to, the accomplishment of the tasks required by paragraph (a)(1) of this AD, reinforce the wing structure at the inboard pylon rear pickup area on both wings (including performing high-frequency eddy current rototests, corrective actions if necessary, and installing a larger reinforcing plate and packer plate) in accordance with Airbus Service Bulletin A330-57-3021, Revision 03, including Appendices 01 and 02, dated November 5, 1999.

(b) For Model A340 series airplanes, prior to the accumulation of 15,000 total flight cycles or 59,600 total flight hours, whichever occurs first, accomplish the actions required by paragraphs (b)(1) and (b)(2) of this AD.

(1) Prior to, or concurrently with, the accomplishment of the tasks required by paragraph (b)(2) of this AD, reinforce the wing structure at the inboard pylon rear pickup area of both wings (including performing high-frequency eddy current rototests, corrective actions if necessary, and installing a larger reinforcing plate and packer plate) in accordance with Airbus Service Bulletin A340-57-4025, Revision 02, including Appendices 01 and 02, dated November 5, 1999.

(2) Concurrently with, or subsequent to, the accomplishment of the tasks required by paragraph (b)(1) of this AD, replace five existing fillets with five new fillets and one existing firewall with one new firewall on each of the left and right wing inboard pylons, in accordance with Airbus Service Bulletin A340-54-4003, Revision 01, dated April 26, 2000.

(c) If any discrepancy is found during any inspection or rototest required by paragraphs (a)(2) or (b)(1) of this AD, prior to further flight, accomplish applicable repairs in accordance with Airbus Service Bulletin A330-57-3021, Revision 03, including Appendices 01 and 02, dated November 5, 1999 (for Model A330 series airplanes), or Airbus Service Bulletin A340-57-4025, Revision 02, including Appendices 01 and 02, dated November 5, 1999 (for Model A340 series airplanes). If the service bulletin specifies to contact the manufacturer for appropriate action: Prior to further flight, repair in accordance with a method approved by either the Manager, International Branch, ANM-116, FAA, Transport Airplane Directorate; or the Direction Générale de l'Aviation Civile (or its delegated agent).

Note 2: Accomplishment of the modifications required by paragraphs (a)(1) and (a)(2) or paragraphs (b)(1) and (b)(2) prior to the effective date of this AD in accordance with the service bulletins listed in Table 1, as follows, is considered acceptable for compliance with the applicable actions in this AD:

Table 1.—Prior Service Bulletins Considered Acceptable for Compliance
Model | Service bulletin | Revision level | Date
A330 | A330-57-3021 | Original | March 25, 1996.
| A330-57-3021 | 01 | September 1, 1998.
| A330-57-3021 | 02 | April 9, 1999.
A330 | A330-54-3005 | Original | March 25, 1996.
A340 | A340-57-4025 | Original | March 25, 1996.
| A340-57-4025 | 01 | September 1, 1998.
A340 | A340-54-4003 | Original | March 25, 1996.

Alternative Methods of Compliance

(d) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(e) Special flight permits may be issued in accordance with sections 21.197 and 21.199 of the Federal Aviation Regulations (14 CFR 21.197 and 21.199) to operate the airplane to a location where the requirements of this AD can be accomplished.

Incorporation by Reference

(f) Except as provided by paragraph (c) of this AD, the actions must be done in accordance with Airbus Service Bulletin A330-57-3021, Revision 03, including Appendices 01 and 02, dated November 5, 1999; Airbus Service Bulletin A340-57-4025, Revision 02, including Appendices 01 and 02, dated November 5, 1999; Airbus Service Bulletin A330-54-3005, Revision 01, dated October 19, 1999; and Airbus Service Bulletin A340-54-4003, Revision 01, dated April 26, 2000; as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 4: The subject of this AD is addressed in French airworthiness directives 2000-178-121(B) and 2000-179-147(B), both dated May 3, 2000.

Effective Date

(g) This amendment becomes effective on May 14, 2001.

Issued in Renton, Washington, on April 19, 2001.
Donald L. Riggin,
Acting Manager, Transport Airplane Directorate, Aircraft Certification Service.

[FR Doc. 01-10338 Filed 4-26-01; 8:45 am]

BILLING CODE 4910-13-P